DEPARTMENT OF STATE

[Public Notice: 11824]

Notification of the Fifteenth Meeting of the CAFTA-DR Environmental Affairs Council; Withdrawal

ACTION: Notice; withdrawal.

SUMMARY: The Department of State published a document in the Federal Register of August 17, 2022, concerning the fifteenth meeting of the Dominican Republic-Central America-United States Free Trade Agreement (CAFTA-DR) Environmental Affairs Council. The United States will no longer be hosting the meeting.

FOR FURTHER INFORMATION CONTACT: Bradley Blecker, (202) 394-3316 or Sigrid Simpson, (202) 881-6592.

SUPPLEMENTARY INFORMATION: Withdrawal.

In the Federal Register of August 17, 2022, we withdraw FR Doc 2022-0024.

Sherry Zalika Sykes,
Director, Office of Environmental Quality, Department of State.

[FR Doc. 2022-20735 Filed 9-23-22; 8:45 am]

BILLING CODE 4710-09-P